DEPARTMENT OF COMMERCE

National Oceanic and Atmospheric Administration

RIN 0648-XS88

Schedules for Atlantic Shark Identification Workshops and Protected Species Safe Handling, Release, and Identification Workshops; Correction

AGENCY: National Marine Fisheries Service (NMFS), National Oceanic and Atmospheric Administration (NOAA), Commerce.

ACTION: Notice of public workshops; correction.

SUMMARY: Due to an unanticipated temporary closure of the Princess Bayside Hotel in Ocean City, MD, NMFS is changing the location of its March 24, 2010, Protected Species Safe Handling, Release, and Identification Workshop that was announced in the Federal Register on December 8, 2009. The locations of the remaining workshops in February and March 2010 remain unchanged. The Protected Species Safe Handling, Release, and Identification Workshops are mandatory for vessel owners and operators who use bottom longline, pelagic longline, or gillnet gear, and have also been issued shark or swordfish limited access permits. Additional free workshops will be held in 2010 and announced in the Federal Register.

DATES: The dates and times for the remaining Protected Species Safe Handling, Release and Identification Workshops in February and March 2010 have not been changed and will be held February 24, March 10, and March 24, 2010. See SUPPLEMENTARY INFORMATION for further details.

ADDRESSES: The remaining Protected Species Safe Handling, Release, and Identification workshops will be held in Boston, MA; Galveston, TX; and Ocean City, MD. See SUPPLEMENTARY INFORMATION for the corrected Ocean City, MD, workshop location.

FOR FURTHER INFORMATION CONTACT: Richard A. Pearson by phone:(727) 824-5399, or by fax: (727) 824-5398.

SUPPLEMENTARY INFORMATION:

Correction

In the Federal Register of December 8, 2009, in FR Doc. E9-29258, on page 64665, in the third column, correct the location of the sixth workshop listed under the heading “Workshop Dates, Times, and Locations” to read:

Workshop Dates, Times, and Locations

6. March 24, 2010, from 9 a.m. - 5 p.m., Princess Royal Hotel, 9100 Coastal Highway, Ocean City, MD 21842.

Atlantic Shark Identification Workshop

Since January 1, 2007, shark limited access and swordfish limited access permit holders who fish with longline or gillnet gear have been required to submit a copy of their Protected Species Safe Handling, Release, and Identification Workshop certificate in order to renew either permit (71 FR 58057; October 2, 2006). These certificate(s) are valid for three years. As such, vessel owners who have not already attended a workshop and received a NMFS certificate, or vessel owners whose certificate(s) will expire prior to the next permit renewal, must attend a workshop to fish with, or renew, their swordfish and shark limited access permits. Additionally, new shark and swordfish limited access permit applicants who intend to fish with longline or gillnet gear must attend a Protected Species Safe Handling, Release, and Identification Workshop and submit a copy of their workshop certificate before either of the permits will be issued. Approximately 78 free Protected Species Safe Handling, Release, and Identification Workshops have been conducted since 2006.

At least one operator on vessels using longline or gillnet gear must be issued, and possess on board, a valid Protected Species Safe Handling, Release, and Identification Workshop certificate issued to that operator, in addition to having on board a valid workshop certificate issued to the vessel owner. Both vessel owner and operator certificates are valid for three years. As such, vessel operators who have not already attended a workshop and received a NMFS certificate, or vessel operators whose certificate(s) will expire prior to their next fishing trip, must attend a workshop to operate a vessel with swordfish and shark limited access permits.

Registration

To register for a scheduled Protected Species Safe Handling, Release, and Identification Workshop, please contact Angler Conservation Education at (386) 852-9137.

Registration Materials

To ensure that workshop certificates are linked to the correct permits, participants will need to bring the following items with them to the workshop:

Individual vessel owners must bring a copy of the appropriate swordfish and/or shark permit(s), a copy of the vessel registration or documentation, and proof of identification.

Representatives of a business owned or co-owned vessel must bring proof that the individual is an agent of the business (such as articles of incorporation), a copy of the applicable swordfish and/or shark permit(s), and proof of identification.

Vessel operators must bring proof of identification. Workshop Objectives

The protected species safe handling, release, and identification workshops are designed to teach longline and gillnet fishermen the required techniques for the safe handling and release of entangled and/or hooked protected species, such as sea turtles, marine mammals, and smalltooth sawfish. The proper identification of protected species will also be taught at these workshops in an effort to improve reporting. Additionally, individuals attending these workshops will gain a better understanding of the requirements for participating in these fisheries. The overall goal of these workshops is to provide participants with the skills needed to reduce the mortality of protected species, which may prevent additional regulations on these fisheries in the future.

Dated: February 18, 2010.
Emily Menashes,
Acting Director, Office of Sustainable Fisheries, National Marine Fisheries Service.

[FR Doc. 2010-3733 Filed 3-23-10; 8:45 am]

BILLING CODE 3510-22-S